DEPARTMENT OF COMMERCE

National Oceanic and Atmospheric Administration

[RTID 0648-XD450]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council will hold a public webinar to collect input on summer flounder commercial mesh regulations and exemptions.

DATES: The meeting will be held on Wednesday, November 1, 2023, from 2 p.m. until 5 p.m. EDT. For agenda details, see SUPPLEMENTARY INFORMATION.

ADDRESSES: The meeting will be held via webinar. Connection information will be posted prior to the meeting at www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council (Council) will host a webinar to collect public input on multiple summer flounder commercial trawl mesh regulations topics, as described below. The Council is seeking feedback to consider whether modifications to these measures may be needed and will review these topics at the December 2023 Council meeting jointly with the Atlantic States Marine Fisheries Commission's Summer Flounder, Scup, and Black Sea Bass Board (Board).

The first issue is the minimum mesh size requirements for the commercial summer flounder trawl fishery. The Fishery Management Plan (FMP) currently allows two options for summer flounder minimum mesh sizes: 5.5-inch diamond or 6.0-inch square. The Council and Board have previously reviewed information suggesting that the selectivity of the 6.0″ square mesh is not equivalent to that of the 5.5″ diamond mesh, and the 6.0″ square mesh may be retaining too many undersized summer flounder. Additional input is being sought from industry on use patterns of these two minimum mesh sizes, factors influencing choice of mesh, cost of modifications to mesh size regulations, and whether modifications to the minimum mesh size may be necessary.

There are two exemptions to the minimum mesh size regulations that are also under review for Council and Board consideration in December 2023: (1) the Small Mesh Exemption Program, and (2) the flynet exemption. Vessels landing more than 200 lb of summer flounder east of longitude 72° 30.0′ W, from November 1 through April 30, and using mesh smaller than 5.5-inch diamond or 6.0-inch square are required to obtain a small mesh exemption program (SMEP) permit from NMFS. The exemption is designed to allow vessels to retain some bycatch of summer flounder while operating in other small-mesh fisheries. This exemption program is being reviewed to determine whether it is still meeting its original intention, and if changes to the SMEP are needed relative to the area, timing, possession limit, or other aspects of the program.

Vessels fishing with a two-seam otter trawl flynet are also exempt from the minimum mesh size requirements. Exempt flynets have large mesh in the wings that measure 8 to 64 inches, the belly of the net has 35 or more meshes that are at least 8 inches, and the mesh decreases in size throughout the body of the net, sometimes to 2 inches or smaller. Previous Council and Board discussions have suggested that the flynet exemption is being used to fish with “high rise” nets that may not meet the regulatory definition of flynets, pointing to a potential enforcement and compliance issues and/or a need to revise the regulatory language. The Council is seeking additional input from industry on how these two exemptions are used and any recommendations for modifications to the program, including consideration of whether they are still needed.

The primary target audience for this webinar includes: (a) any commercial industry participant using trawl gear to fish for summer flounder, (b) commercial fishing industry participants utilizing either of the summer flounder mesh size exemptions while targeting any species, (c) any stakeholder with knowledge of these gear types and their use, and (d) any member of the public who wishes to provide comments or recommendations on these regulations. Additional information, background documents, and instructions for providing written comments will be posted to the Council's website at: https://www.mafmc.org/.

Special Accommodations

The meeting is physically accessible to people with disabilities. Requests for sign language interpretation or other auxiliary aid should be directed to Shelley Spedden, (302) 526-5251, at least 5 days prior to the meeting date.

Authority: 16 U.S.C. 1801 et seq.

Dated: October 6, 2023.
Rey Israel Marquez,
Acting Deputy Director, Office of Sustainable Fisheries, National Marine Fisheries Service.

[FR Doc. 2023-22662 Filed 10-12-23; 8:45 am]

BILLING CODE 3510-22-P